OFFICE OF PERSONNEL MANAGEMENT

Excepted Service

AGENCY: U.S. Office of Personnel Management (OPM).

ACTION: Notice.

SUMMARY: This notice identifies Schedule A, B, and C appointing authorities applicable to a single agency that were established or revoked from February 1, 2017 to February 28, 2017.

FOR FURTHER INFORMATION CONTACT: Senior Executive Resources Services, Senior Executive Service and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during February 2017.

Schedule B

No schedule B authorities to report during February 2017.

The following Schedule C appointing authorities were approved during February 2017.

Agency name | Organization name | Position title | Authorization No. | Effective date
Department of Commerce | Immediate Office of the Secretary | Senior Advisor | DC170056 | 02/27/2017
Department of Health And Human Services | Office of the Assistant Secretary for Public Affairs | Special Advisor | DH170088 | 02/21/2017
| Office of the Assistant Secretary for Health | Associate Director for Policy Special Assistant | DH170094 DH170097 | 02/21/2017 02/21/2017
| Office of Global Affairs | Senior Advisor | DH170103 | 02/21/2017
|  | Advisor | DH170113 | 02/21/2017
| Administration for Children and Families | Special Assistant | DH170127 | 02/21/2017
| Office of the Secretary | Special Assistant (2) | DH170128 DH170112 | 02/21/2017 02/22/2017
|  | Policy Advisor for Health Policy | DH170093 | 02/21/2017
| Centers for Medicare and Medicaid Services | Senior Advisor | DH170108 | 02/27/2017
| Office of Intergovernmental and External Affairs | Director of External Affairs | DH170136 | 02/27/2017
Department of Justice | Office of the Attorney General | Deputy White House Liaison | DJ170039 | 02/23/2017
Department of the Navy | Office of the Under Secretary of the Navy | Special Assistant for International Affairs | DN170007 | 02/06/2017
|  | Residence Director | DN170017 | 02/09/2017
Official Residence of the Vice President | Official Residence of the Vice President | Deputy Residence Manager | RV170001 | 02/09/2017
Department of Transportation | Office of the Secretary | Special Assistant for Scheduling and Advance | DT170036 | 02/28/2017
Department of the Treasury | Office of the Secretary | Director, Operations (Scheduling and Advance) | DY170060 | 02/27/2017
|  | Senior Advisor | DY170065 | 02/27/2017

The following Schedule C appointing authorities were revoked during February 2017.

Agency name | Organization name | Position title | Request No. | Date vacated
Commodity Futures Trading Commission | Division of Enforcement | Director, Division of Enforcement | CT140008 | 02/04/2017
| Office of the Chairperson | Administrative Assistant to the Commissioner | CT100004 | 02/04/2017
Consumer Product Safety Commission | Office of Commissioners | Chief of Staff | PS140013 | 02/08/2017
|  | Special Assistant | PS140016 | 02/08/2017
| Office of Congressional Relations | Director, Office of Congressional Relations | PS160001 | 02/09/2017
National Credit Union Administration | National Credit Union Administration | Staff Assistant | CU090004 | 02/04/2017
|  | Director, Public and Congressional Affairs/Chief Policy Advisor to the Chairman | CU110004 | 02/18/2017
National Endowment for the Arts | Office of the Chief of Staff | White House Liaison/Senior Advisor to the Chief of Staff | NA160006 | 02/03/2017
Securities and Exchange Commission | Office of the Chief Operating Officer | Writer-Editor | SE140001 | 02/10/2017

Authority: 5 U.S.C. 3301 and 3302; E.O. 10577, 3 CFR, 1954-1958 Comp., p. 218.

U.S. Office of Personnel Management.
Kathleen M. McGettigan,
Acting Director.

[FR Doc. 2017-23425 Filed 10-26-17; 8:45 am]

BILLING CODE 6325-39-P